DEPARTMENT OF ENERGY

Federal Energy Regulatory Commission

[Project No. 2042-013]

PUD #1 of Pend Oreille County; Notice of Meeting for the Box Canyon Hydroelectric Project

April 26, 2002.

a. Date and Time of Meeting: May 16, 2002, 10 a.m. PST to 2 p.m. PST

b. Place: By copy of this notice we are inviting U.S. Forest Service, U.S. Department of the Interior, Washington Department of Fish & Wildlife and Idaho Department of Fish & Game, Kalispel Tribe of Indians, and other interested parties to participate in a conference, either in person at the Airport Ramada Inn, Spokane, WA, or via telephone from their location.

c. FERC Contact: Timothy Welch at (202) 219-2666: timothy.welch@ferc.gov.

d. Purpose of the Meeting: The Federal Energy Regulatory Commission seeks further clarification of resource agency comments, mandatory conditions, and recommended protection, mitigation, and enhancement measures filed in response to our Notice of Ready for Environmental Analysis issued September 4, 2002. At this time, we seek further clarification of estimated costs for implementation of these recommended measures in order to complete the developmental analysis required for our NEPA document.

e. Agenda: Clarification and confirmation of the assumptions underlying the estimated costs to implement the cited environmental measures.

f. All local, state, and federal agencies, Indian Tribes and interested parties, are hereby invited to participate in this meeting. Those wishing to audit by teleconference, may do so. In either case, please register with either Timothy Welch at the number listed above or with Leslie Smythe at (781) 444-3330 ext.481: lsmythe@louisberger.com No later than close of business May 14, 2002.

Magalie R. Salas,
Secretary.

[FR Doc. 02-10863 Filed 5-1-02; 8:45 am]

BILLING CODE 6717-01-P